DEPARTMENT OF LABOR

Employee Benefits Security Administration

Working Group on Health Care Security, Advisory Council on Employee Welfare and Pension Benefits Plans; Notice of Meeting

Pursuant to the authority contained in Section 512 of the Employee Retirement Income Security Act of 1974 (ERISA), 29 U.S.C. 1142, a public meeting will be held Wednesday, July 23, 2003, of the Advisory Council on Employee Welfare and Pension Benefit Plans Working Group assigned to study the issue of health care security, including consumer-directed health plans and self-insured plans.

The session will take place in Room N-3437 B-C, U.S. Department of Labor Building, 200 Constitution Avenue, NW., Washington, DC 20210. The purpose of the open meeting, which will run from 9 a.m. to approximately 4 p.m., is for Working Group members to hear testimony from invited witnesses.

Members of the public are encouraged to file a written statement pertaining to the topic by submitting 20 copies before July 20, 2003 to Sharon Morrissey, Executive Secretary, ERISA Advisory Council, U.S. Department of Labor, Room N-5677, 200 Constitution Avenue, NW., Washington, DC 20210. Individuals or representatives of organizations wishing to address the Working Group should contact the Executive Secretary by mail or call (202) 693-8668 before July 20. Oral presentations should be limited to 20 minutes, but an extended statement may be submitted for the record. Individuals with disabilities who need special accommodations should contact the Executive Secretary by mail or phone before July 20.

Organizations or individuals may also submit statements for the record without testifying. Twenty (20) copies of such statements should be sent to the Executive Secretary before July 20. Papers received after that date will not be included in the record of the meeting.

Signed in Washington, DC this 8th day of July 2003.
Ann L. Combs,
Assistant Secretary, Employee Benefits Security Administration.

[FR Doc. 03-17707 Filed 7-11-03; 8:45 am]

BILLING CODE 4510-29-M